DEPARTMENT OF HEALTH AND HUMAN SERVICES

Office of the Secretary

[Document Identifier HHS-OS-0990-0322-30D]

Agency Information Collection Activities; Proposed Collection; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for reinstatement of a previously-approved information collection assigned OMB control number 0990-0322, which expired on December 31, 2014. Comments submitted during the first public review of this ICR will be provided to OMB. OMB will accept further comments from the public on this ICR during the review and approval period.

DATES: Comments on the ICR must be received on or before February 23, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0990-0322 and document identifier HHS-OS-30D for reference.

Information Collection Request Title: Safe Harbor for Federally Qualified Health Centers Arrangements

Abstract: The Office of General Inspector needs an approval by OMB on an reinstatement without change for data collection 0990-0322 which are requirements associated with a voluntary safe harbor for Federally Qualified Health Centers under the Federal anti-kickback statute. See 72 FR 56632 (October 4, 2007). The safe harbor protects certain arrangements involving goods, items, services, donations, and loans provided by individuals and entities to certain health centers funded under section 330 of the Public Health Service Act.

Likely Respondents: Health Centers.

Total Estimated Annualized Burden—Hours
Type of respondent | Number of respondents | Number responses per respondent | Avg. burden hour per response | Total burden hours
Health Center (administrative professional) | 4,983 | 1 | 1 | 4,983

Darius Taylor,
Information Collection Clearance Officer.

[FR Doc. 2015-01098 Filed 1-22-15; 8:45 am]

BILLING CODE 4151-01-P